DEPARTMENT OF COMMERCE

National Oceanic and Atmospheric Administration

RIN 0648-XD296

Endangered Species; File No. 18604

AGENCY: National Marine Fisheries Service (NMFS), National Oceanic and Atmospheric Administration (NOAA), Commerce.

ACTION: Notice; issuance of permit.

SUMMARY: Notice is hereby given that the Guam Department of Agriculture Division of Aquatic and Wildlife Resources (DAWR), 163 Dairy Road, Mangilao, Guam 96913 has been issued a permit to take green (Chelonia mydas) and hawksbill (Eretmochelys imbricata) sea turtles for purposes of scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Hapeman or Courtney Smith, (301) 427-8401.

SUPPLEMENTARY INFORMATION: On May 20, 2014 and October 9, 2014, notice was published in the Federal Register (79 FR 28899 and 79 FR 61057, respectively) that a request for a scientific research permit to take green and hawksbill sea turtles had been submitted by the above-named organization. The requested permit has been issued under the authority of the Endangered Species Act of 1973, as amended (ESA; 16 U.S.C. 1531 et seq.) and the regulations governing the taking, importing, and exporting of endangered and threatened species (50 CFR parts 222-226).

DAWR has been issued a five-year research permit to gather information on green and hawksbill sea turtle movement, species distribution, and health status and to document threats to the species. Researchers may capture and release up to 66 green and 6 hawksbill sea turtles annually by hand or by net in Guam waters. Turtles may be measured, flipper tagged, photographed, passive integrated transponder tagged, tissue sampled, and released. A subset of each species may have a satellite transmitter attached to the turtle's carapace. This information would be used to develop conservation management measures for these species.

Issuance of this permit, as required by the ESA, was based on a finding that such permit (1) was applied for in good faith, (2) will not operate to the disadvantage of such endangered or threatened species, and (3) is consistent with the purposes and policies set forth in section 2 of the ESA.

Dated: April 13, 2015.
Julia Harrison,
Chief, Permits and Conservation Division, Office of Protected Resources, National Marine Fisheries Service.

[FR Doc. 2015-09443 Filed 4-22-15; 8:45 am]

BILLING CODE 3510-22-P